NATIONAL SCIENCE FOUNDATION

Advisory Committee for Mathematical and Physical Sciences; Notice of Meeting

In accordance with the Federal Advisory Committee Act (Pub. L. 92-4631, as amended), the National Science Foundation announces the following meeting:

Name: Advisory Committee for Mathematical and Physical Sciences (66).

Date and Time:

February 7, 2001; 8:30 a.m.-10 a.m. (Open) & 10:00 a.m.-5:30 p.m. (Closed)

February 8, 2001; 8:30 a.m.-5:30 p.m. (Open)

February 9, 2001; 8 a.m.-11 a.m. (Closed) & 11 a.m.-4 p.m. (Open)

Place: National Science Foundation, 4201 Wilson Boulevard, Room 375, Arlington, VA 22230.

Type of Meeting: Part-Open.

Contact Person: Dr. Philippe Tondeur, Director, Division of Mathematical Sciences, Room 1025, National Science Foundation, 4201 Wilson Boulevard, Arlington, VA 22230. Telephone: (703) 292-4850.

Purpose of Meeting: To provide management advice and recommendations based on proposals submitted to NSF for financial support.

Agenda:

February 7, 2001: AM—Introductory Remarks; PM—First Round In-depth Program Review

February 8, 2001: AM—Discussion of Findings and Report; PM—Address GPRA review

February 9, 2001: AM—Preparation of Draft Report and Final Review of Proposals; PM—Open Discussion of Divisional Issues, and Briefing by Committee of Visitors

Reason for Closing: During the closed sessions, review of proposals include information of a proprietary or confidential nature, including technical information; financial data, such as salaries and personal information concerning individuals associated with the proposals. These matters are exempt under 5 U.S.C. 552b(c), (4) and (6) of the Government in the Sunshine Act.

Dated: January 25, 2001.
Karen J. York,
Committee Management Officer.

[FR Doc. 01-2617 Filed 1-30-01; 8:45 am]

BILLING CODE 7555-01-M